FEDERAL RESERVE SYSTEM

12 CFR Part 225

[Regulation Y; Docket No. R-1405]

RIN 7100-AD64

Definition of “Predominantly Engaged in Financial Activities”; Correction

AGENCY: Board of Governors of the Federal Reserve System (“Board”).

ACTION: Supplemental notice of proposed rulemaking and request for comment; correction.

SUMMARY: On April 10, 2012, the Board published in the Federal Register a supplemental notice of proposed rulemaking and request for comment that would establish the criteria for determining whether a company is “predominantly engaged in financial activities” for purposes of Title I of the Dodd-Frank Wall Street Reform and Consumer Protection Act of 2010. That Federal Register notice omitted the instructions for submitting comments. This document corrects that omission.

DATES: The comment period closing date for the proposed rule published April 10, 2012, at 77 FR 21494 remains May 25, 2012.

ADDRESSES: You may submit comments on the proposed rule published April 10, 2012, at 77 FR 21494, identified by Docket No. 1405 and RIN 7100-AD64 by any of the following methods:

• Agency Web Site: http://www.federalreserve.gov. Follow the instructions for submitting comments at http://www.federalreserve.gov/apps/foia/proposedregs.aspx.

• Federal eRulemaking Portal: http://www.regulations.gov. Follow the instructions for submitting comments.

• Email: regs.comments@federalreserve.gov. Include docket and RIN numbers in the subject line of the message.

• Fax: (202) 452-3819 or (202) 452- 3102.

• Mail: Jennifer J. Johnson, Secretary, Board of Governors of the Federal Reserve System, 20th Street and Constitution Avenue NW., Washington, DC 20551.

All public comments are available from the Board's Web site at http://www.federalreserve.gov/apps/foia/proposedregs.aspx as submitted, unless modified for technical reasons. Accordingly, your comments will not be edited to remove any identifying or contact information. Public comments may also be viewed electronically or in paper form in Room MP-500 of the Board's Martin Building (20th and C Streets NW.) between 9 a.m. and 5 p.m. on weekdays.

FOR FURTHER INFORMATION CONTACT: Laurie S. Schaffer, Associate General Counsel, (202) 452-2272, Paige E. Pidano, Senior Attorney, (202) 452-2803 or Christine E. Graham, Senior Attorney, (202) 452-3005, Legal Division; Mark Van Der Weide, Senior Associate Director, (202) 452-2263, Division of Banking Supervision and Regulation, Board of Governors of the Federal Reserve System, 20th Street and Constitution Avenue NW., Washington, DC 20551. Users of Telecommunication Device for the Deaf (TDD) only, call (202) 263-4869.

SUPPLEMENTARY INFORMATION: On April 10, 2012, the Board published in the Federal Register a supplemental notice of proposed rulemaking and request for comment that would establish the criteria for determining whether a company is “predominantly engaged in financial activities” for purposes of Title I of the Dodd-Frank Wall Street Reform and Consumer Protection Act of 2010. That Federal Register notice omitted the instructions for submitting comments. This document corrects that omission.

By order of the Board of Governors of the Federal Reserve System, April 12, 2012.
Jennifer J. Johnson,
Secretary of the Board.

[FR Doc. 2012-9210 Filed 4-16-12; 8:45 am]

BILLING CODE 6210-01-P